ENVIRONMENTAL PROTECTION AGENCY

40 CFR Part 51

Requirements for Preparation, Adoption, and Submittal of Implementation Plans

CFR Correction

In Title 40 of the Code of Federal Regulations, Parts 50 to 51, revised as of July 1, 2017, on page 478, in Part 51, Appendix M, following Reynolds Number., Equation 10 is reinstated to read as follows:

[FR Doc. 2018-05798 Filed 3-20-18; 8:45 am]

BILLING CODE 1301-00-D